ENVIRONMENTAL PROTECTION AGENCY

[ER-FRL-9010-7]

Environmental Impacts Statements; Notice of Availability

Responsible Agency: Office of Federal Activities, General Information (202) 564-7146 or http://www.epa.gov/compliance/nepa/

Weekly receipt of Environmental Impact Statements

Filed 08/12/2013 Through 08/16/2013

Pursuant to 40 CFR 1506.9.

Notice:

Section 309(a) of the Clean Air Act requires that EPA make public its comments on EISs issued by other Federal agencies. EPA's comment letters on EISs are available at: http://www.epa.gov/compliance/nepa/eisdata.html

EIS No. 20130244, Draft EIS, USFWS, CA, South Farallon Islands Invasive House Mouse Eradication Project, Farallon National Wildlife Refuge, Comment Period Ends: 09/30/2013, Contact: Gerry McChesney 510-792-0222, ext. 222. This document was inadvertently omitted from the FR Notice published 8/16/2013. The Comment Period will end 09/30/2013.

EIS No. 20130245, Final EIS, BR, CO, Arkansas Valley Conduit and Long-Term Excess Capacity Master Contract, Review Period Ends: 09/23/2013, Contact: J. Signe Snortland 701-221-1278.

EIS No. 20130246, Draft EIS, USFS, NV, Greater Sage Grouse Bi-State Distinct Population Segment Forest Plan Amendment, Comment Period Ends: 11/20/2013, Contact: James Winfrey 775-355-5308.

EIS No. 20130247, Final EIS, FHWA, LA, Interstate 69 Segment of Independent Utility 15, US 171 to I-20, Review Period Ends: 10/07/2013, Contact: Carl M. Highsmith 225-757-7615.

EIS No. 20130248, Final EIS, USDA, NC, ADOPTION—North Topsail Beach Shoreline Protection Project, Review Period Ends: 09/23/2013, Contact: Frank Mancino 202-720-1827. The U.S. Department of Agriculture's Rural Housing Service has adopted the U.S. Army Corps of Engineers FEIS #20100025, filed 01/26/2010 with the USEPA. The Rural Housing Service was not a cooperating agency to this project. Recirculation of the document is necessary under Section 1506.3(b) of the Council on Environmental Quality Regulations.

EIS No. 20130249, Draft EIS, USACE, LA, West Shore Lake Pontchartrain Hurricane and Storm Damage Risk Reduction, Comment Period Ends: 10/07/2013, Contact: William Klein 504-862-2540.

Amended Notices

EIS No. 20130237, Final EIS, NMFS, NJ, FEIS Amendment 14 to the Atlantic Mackerel, Squid, and Butterfish Fishery Management Plan, Review Period Ends: 09/16/2013, Contact: Aja Szumylo 978-281-9195.

Revision to FR Notice Published 08/16/2013; Correction to Review Period Ends: Change from 10/14/2013 to 09/16/2013.

Dated: August 20, 2013.
Cliff Rader,
Director, NEPA Compliance Division, Office of Federal Activities.

[FR Doc. 2013-20647 Filed 8-22-13; 8:45 am]

BILLING CODE 6560-50-P